DEPARTMENT OF ENERGY

Federal Energy Regulatory Commission

[Docket No. RP97-255-034]

TransColorado Gas Transmission Company; Notice of Tariff Filing

October 5, 2001.

Take notice that on October 1, 2001, pursuant to 18 CFR 154.7 and 154.203, and in compliance with the Commission's letter order issued March 20, 1997, in Docket No. RP97-255-000, TransColorado Gas Transmission Company (TransColorado) tendered for filing and acceptance Thirty-Fourth Revised Sheet No. 21 and Seventh Revised Sheet No. 22A to Original Volume No. 1 of its FERC Gas Tariff to be effective October 1, 2001.

Thirty-Fourth Revised Sheet No. 21

Seventh Revised Sheet No. 22A

The tendered tariff sheets propose to revise TransColorado's Tariff to reflect two amended and one deleted negotiated-rate contracts. TransColorado requested waiver of 18 CFR 154.207 so that the tendered tariff sheets may become effective October 1, 2001.

TransColorado stated that a copy of this filing has been served upon all parties to this proceeding, TransColorado's customers, the Colorado Public Utilities Commission and the New Mexico Public Utilities Commission.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-25631 Filed 10-11-01; 8:45 am]

BILLING CODE 6717-01-P